DEPARTMENT OF ENERGY

Western Area Power Administration

Request for Statements of Interest Regarding the WAPA Transmission System in the Area of Boulder City, Nevada

AGENCY: Western Area Power Administration, DOE.

ACTION: Request for statements.

SUMMARY: Western Area Power Administration (WAPA), a Federal power marketing administration of the Department of Energy (DOE), is evaluating options that could reduce congestion on its transmission system and facilitate the interconnection and/or transmittal of energy, including renewable generation, in southern Nevada. WAPA is requesting statements of interest (SOI) from entities that are interested in participating with WAPA to upgrade or construct new transmission facilities for WAPA's transmission system, or taking transmission service on or interconnecting with upgraded or newly constructed facilities, in the area of Boulder City, Nevada. WAPA's transmission system in the area of Boulder City, Nevada includes Mead Substation, a significant regional trading hub for energy.

DATES: To be assured consideration, all SOI should be received by WAPA on or before November 21, 2022.

ADDRESSES: Send responses to: Jack Murray, Regional Manager, Desert Southwest Region, Western Area Power Administration, P.O. Box 6457, Phoenix, Arizona 85005-6457, or dswpwrmrk@wapa.gov.

FOR FURTHER INFORMATION CONTACT: Jack Murray, Regional Manager, Desert Southwest Region, Western Area Power Administration, P.O. Box 6457, Phoenix, Arizona 85005-6457, (602) 605-2453 or dswpwrmrk@wapa.gov.

SUPPLEMENTARY INFORMATION: WAPA markets and transmits Federal power resources from various multi-purpose hydroelectric projects to customers in accordance with Federal law. WAPA owns and operates an integrated 17,000 circuit-mile, high-voltage transmission system across 15 western states covering a 1.3 million square mile service area. WAPA's transmission system is used to deliver Federal hydropower to WAPA's customers. In addition, the system is used to deliver power from interconnected power producers, including clean, renewable energy resources.

WAPA's Desert Southwest Region, based in Phoenix, Arizona, operates and maintains more than 3,100 miles of transmission lines and facilities in Arizona, California, and Nevada. WAPA's transmission system in Nevada includes Mead Substation, a facility of the southern portion of the Pacific Northwest-Pacific Southwest Intertie Project (Intertie) and an important trading hub for wholesale power which offers access to multiple markets throughout the western United States. The Intertie was authorized by Section 8 of the Pacific Northwest Power Marketing Act of August 31, 1964.¹ The basic purpose of the Intertie was to provide, through transmission system interconnections among certain Federal and non-Federal power systems, maximum use of power resources to meet growing demands. WAPA also operates and maintains transmission system assets in the area of Boulder City, Nevada pursuant to its Parker-Davis Project legislative authorities.² Finally, WAPA has statutory authority under its Transmission Infrastructure Program (TIP) to borrow up to $3.25 billion from the Department of the Treasury for the purpose of (1) constructing, financing, facilitating, planning, operating, maintaining, or studying construction of new or upgraded electric power transmission lines and related facilities with at least one terminus within WAPA's service territory, and (2) delivering or facilitating the delivery of power generated by renewable energy resources constructed or reasonably expected to be constructed.³

¹ Public Law 88-552, now codified at 16 U.S.C. 837g.

² The Parker-Davis Project was formed by consolidating two projects, Parker Dam and Davis Dam, under terms of the Consolidate Parker Dam Power Project and Davis Dam Project Act on May 28, 1954. Public Law 83-373.

³ WAPA's Transmission Infrastructure Program (TIP) implements Section 301 of the Hoover Power Plant Act of 1984 (42 U.S.C. 16421a). For each TIP project in which WAPA participates, the WAPA Administrator must certify, prior to committing any funds for the project, that the project is in the public interest, the project will not adversely impact system reliability or operations or other statutory obligations, and it is reasonable to expect the proceeds from the project shall be adequate to repay the loan. TIP's principles, policies, and practices were announced May 14, 2009 (74 FR 22732), and subsequently revised April 7, 2014 (79 FR 19065) and August 23, 2021 (86 FR 47099).

Transmission capacity in the area of Boulder City, Nevada, is congested due to high demand and WAPA seeks to reduce that congestion by increasing transmission capacity. In this notice, WAPA solicits SOIs to allow WAPA to determine the level of interest for actions that could reduce congestion and facilitate the interconnection and/or transmittal of energy, including renewable generation, in its transmission system in southern Nevada. Specifically, WAPA is soliciting SOIs from entities that are interested in (1) participating with WAPA in upgrading or constructing new facilities for WAPA's transmission system, including Mead Substation, in the area of Boulder City, Nevada, and/or (2) taking transmission service from or interconnecting to such upgraded or newly constructed transmission facilities.

SOIs submitted with respect to this notice should include the following information, as applicable:

1. Name and general description of the entity submitting the SOI.

2. Name, mailing address, telephone number, and email address of the entity's primary contact for the SOI.

3. A description of (a) the entity's interest in upgrading or constructing new transmission facilities in the area of Boulder City, Nevada and/or taking service on or interconnecting to such facilities; (b) information about the energy resource(s) associated with the entity's interest, including, but not necessarily limited to, type of resource, the general location, expected resource capacity, and estimated commercial operation date; and (c) an overview of any proposed upgraded or new transmission facilities, including location, routing, and minimum transfer capability.

4. Statement of potential financing sources, including, if applicable, interest in financing through WAPA's TIP.

5. Description of the proposed role that the submitting entity may serve in the development, construction, ownership, operation, and maintenance of the facilities.

6. Any other information that the submitting entity thinks would be useful for consideration as part of its SOI.

An expression of interest made by submitting a SOI is not binding or promissory. WAPA will treat data submitted by entities in this process, including financing arrangements with other parties, in accordance with the Freedom of Information Act (FOIA). If submitting entities seek confidential treatment of all or part of a submitted document under the FOIA exemption for confidential business information, they should appropriately mark such documents and WAPA will consider such markings in the event a FOIA request is received.

Additional information on WAPA's Desert Southwest Region and transmission system can be found at: https://www.wapa.gov/regions/DSW/Pages/dsw.aspx and https://www.wapa.gov/transmission/Pages/oasis.aspx.

Procedure Requirements

Determination Under Executive Order 12866

WAPA has an exemption from centralized regulatory review under Executive Order 12866; accordingly, no clearance of this notice by the Office of Management and Budget is required.

Signing Authority

This document of the Department of Energy was signed on August 15, 2022, by Tracey A. LeBeau, Administrator, Western Area Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 17, 2022.
Treena V. Garrett,
Federal Register Liaison Officer, U.S. Department of Energy.

[FR Doc. 2022-18080 Filed 8-22-22; 8:45 am]

BILLING CODE 6450-01-P